GENERAL SERVICES ADMINISTRATION

41 CFR Part 102-36

[FMR Case 2012-102-4; Docket No. 2012-0014; Sequence No. 1]

RIN 3090-AJ30

Federal Management Regulation; Disposal and Reporting of Federal Electronic Assets (FEA)

AGENCY: Office of Government-wide Policy, General Services Administration (GSA).

ACTION: Correction.

SUMMARY: GSA published a proposed rule in the Federal Register on March 6, 2014 (79 FR 12681), regarding the disposal and reporting of Federal Electronic Assets (FEA). GSA is making a correction to the Supplementary Information section of the document.

DATES: Effective: April 9, 2014.

FOR FURTHER INFORMATION CONTACT: For clarification of content, contact Mr. Robert Holcombe, Office of Government-wide Policy, Office of Asset and Transportation Management (MA), at 202-501-3828 or by email at robert.holcombe@gsa.gov. For information pertaining to status or publication schedules, contact the Regulatory Secretariat at 202-501-4755. Please cite FMR Case 2012-102-4.

SUPPLEMENTARY INFORMATION: GSA is making a correction to the Supplementary Information section in the proposed rule that was published on March 6, 2014. This correction clarifies that FEA may be sent to recyclers conforming to either of the two recycling standards identified in the proposed rule until GSA makes publically available the full list of criteria to be used to evaluate recycling standards.

Correction

In the FR Doc. 2014-04585 published in the Federal Register at 79 FR 12681, March 6, 2014, make the following correction to the Supplementary Information section. On page 12682, in the second column, in the first full paragraph, remove the last sentence, “Recyclers that conform to either of these two standards would be considered a “certified recycler” under the proposed rule.” and add “Recyclers that conform to either of these two standards will be considered a “certified recycler” until GSA makes publically available the full list of criteria, which will be developed.” in its place.

Dated: April 3, 2014.
Carolyn Austin-Diggs,
Acting Deputy Associate Administrator, Office of Asset and Transportation Management, Office of Government-wide Policy.

[FR Doc. 2014-07903 Filed 4-8-14; 8:45 am]

BILLING CODE 6820-14-P